DEPARTMENT OF DEFENSE

Department of the Navy

Extension of Public Comment Period for the Draft Environmental Impact Statement/Overseas Environmental Impact Statement for Commonwealth of the Northern Mariana Islands Joint Military Training

AGENCY: Department of the Navy, Department of Defense.

ACTION: Notice.

SUMMARY: On April 03, 2015, the Department of Navy (DoN) published a Notice of Availability and Notice of Public Meetings for the Draft Environmental Impact Statement/Overseas Environmental Impact Statement for Commonwealth of the Northern Mariana Islands Joint Military Training (80 FR 18385, April 03, 2015). Notices extending the public comment period by 60 days and 14 days were published on May 14, 2015 (80 FR 27678) and July 31, 2015 (80 FR 45647), respectively. The purpose of this notice is to announce an additional 45 day extension of the public comment period to October 01, 2015 Eastern Daylight Time (E.D.T.) [October 2, 2015, Chamorro Standard Time (ChST)]. This extension is made in recognition of damage on Saipan from Typhoon Soudelor and the ongoing recovery effort.

DATES: The public comment period for the Draft EIS began on April 03, 2015, EDT [April 04, 2015, ChST] with the publication of the Notice of Availability in the Federal Register by the U.S. Environmental Protection Agency, and with this extension, will end on October 1, 2015, EDT [October 2, 2015, ChST] for a total of 179 days. Mailed comments should be postmarked no later than October 1, 2015, EDT [October 2, 2015, ChST] to ensure they are considered.

ADDRESSES: The public may provide comments through the project Web site at www.CNMIJointMilitaryTrainingEIS.com, or by mail at: Naval Facilities Engineering Command, Pacific, Attn: 09PA, Public Affairs Office, 258 Makalapa Drive, Suite 100, JBPHH, HI 96860-3134.

The Draft EIS/OEIS was distributed to federal and local agencies, elected officials, and other interested individuals and organizations. The Draft EIS/OEIS is available for public review at www.CNMIJointMilitaryTrainingEIS.com, and at the following libraries:

(1) Joeten Kiyu Public Library, Saipan; (2) Northern Marianas College Olympio T. Borja Memorial Library, Saipan; (3) Tinian Public Library, Tinian; (4) Antonio C. Atalig Memorial Rota Public Library, Rota; (5) University of Guam Robert F. Kennedy Memorial Library, Guam; (6) Nieves M. Flores Memorial Library, Guam.

SUPPLEMENTARY INFORMATION: The DoN's proposed action is to establish live-fire Range Training Areas (RTAs) within the CNMI to address the U.S. Pacific Command Service Components' unfilled unit level and combined level training requirements in the Western Pacific. The DoN recognizes that public comments are an essential part of the National Environmental Policy Act (NEPA) process. Accordingly, the DoN initially established a 60-day public comment period in lieu of the minimum 45-day period required by NEPA implementing regulations. Notices extending the public comment period by 60 days and 14 days were published on May 14, 2015 (80 FR 27678) and July 31, 2015 (80 FR 45647), respectively. Due to Typhoon Soudelor recovery efforts, the DoN is further extending the Draft EIS public comment period by 45 days to October 1, 2015, EDT [October 2, 2015, ChST] for a total of 179 days.

FOR FURTHER INFORMATION CONTACT: CNMI Joint Military Training EIS/OEIS Project Manager by email via the project Web site (www.CNMIJointMilitaryTrainingEIS.com).

Dated: August 13, 2015.
N.A. Hagerty-Ford,
Commander, Judge Advocate General's Corps, U.S. Navy, Federal Register Liaison Officer.

[FR Doc. 2015-20507 Filed 8-19-15; 8:45 am]

BILLING CODE 3810-FF-P